DEPARTMENT OF ENERGY

Federal Energy Regulatory Commission

[Docket No. EG05-52-000, et al.]

Basin Creek Equity Partners, L.L.C., et al.; Electric Rate and Corporate Filings

March 10, 2005.

The following filings have been made with the Commission. The filings are listed in ascending order within each docket classification.

1. Basin Creek Equity Partners, L.L.C.

[Docket No. EG05-52-000]

Take notice that on March 7, 2005, Basin Creek Equity Partners, L.L.C., a Delaware limited liability company (Basin Creek) with its principal executive office at 65 East Broadway, Fourth Floor, Butte, Montana 59701, filed with the Federal Energy Regulatory Commission an application for determination of exempt wholesale generator status pursuant to part 365 of the Commission's regulations and section 32 of the Public Utility Holding Company Act of 1935, as amended.

Basin Creek states that it is constructing and intends to own and operate an approximately 51.8 MW simple-cycle natural gas-fired generating facility located in Silver Bow County, Montana (Facility). Applicant states that the Facility will be interconnected with the transmission system of NorthWestern Energy, a division of Northwestern Corporation, which will also purchase the entire electrical output of the Facility at wholesale. Basin Creek further states that it will be engaged directly and exclusively in the business of owning and operating eligible facilities.

Comment Date: 5 p.m. eastern time on March 28, 2005.

2. PJM Interconnection, L.L.C.

[Docket No. EL03-236-006]

Take notice that on March 4, 2005, PJM Interconnection, L.L.C. submitted a compliance filing pursuant to the Commission's order issued January 25, 2005 in Docket No. EL03-236-001, et al., FERC ¶ 61,053 (2005).

Comment Date: 5 p.m. eastern time on April 4, 2005.

3. Puget Sound Energy, Inc.

[Docket Nos. EL05-37-001, ER99-845-008]

Take notice that on February 1, 2005, Puget Sound Energy, Inc. (Puget Sound) tendered for filing additional information pursuant to Ordering Paragraph (F) of the Commission's “Order on Updated Market Power Analysis, Instituting Section 206 Proceeding and Establishing Refund Effective Date” issued December 20, 2004 in Docket No. ER99-485-004, et al., 109 FERC ¶ 61,293 (2004).

Comment Date: 5 p.m. eastern time on March 21, 2005.

4. Southern Company Energy Marketing L.P. and Southern Company Services, Inc.

[Docket Nos. ER97-4166-019, ER96-780-009, EL04-124-002]

Take notice that on February 15, 2005, Southern Company Services, Inc., acting as agent for Alabama Power Company, Georgia Power Company, Gulf Power Company, Mississippi Power Company, Savannah Electric and Power Company, and Southern Power Company, submitted testimony and exhibits addressing the matters at issue in the Commission's order issued December 17, 2004 in Docket No. ER97-4166-015, et al., 109 FERC ¶ 61,275 (2004).

Comment Date: 5 p.m. eastern time on March 23, 2005.

5. FPL Energy MH50, L.P.

[Docket No. ER99-2917-005]

Take notice that on March 7, 2005, FPL Energy MH50, L.P. (FPLE MH50) submitted revised tariff sheets in compliance with Investigation of Terms and Conditions of Public Utility Market-Based Rate Authorizations, 105 FERC ¶ 61,277 (2003) and Order No. 652, Reporting Requirement for Changes in Status for Public Utilities with Market-Based Rate Authority issued February 10, 2005, 110 FERC ¶ 61,097 (2005).

FPLE MF50 states that copies of the filing were served on the parties on the official service lists in the above-captioned proceeding and the Florida Public Service Commission.

Comment Date: 5 p.m. eastern time on March 28, 2005.

6. Doswell Limited Partnership

[Docket No. ER00-2391-004]

Take notice that on March 7, 2005, Doswell Limited Partnership (Doswell) submitted an errata to its compliance filing made February 28, 2005. Doswell states the errata filing is for the purpose of including the revised tariff sheets in compliance with Order No. 614, Designation of Electric Rate Schedule Sheets, issued March 31, 2000, which were inadvertently omitted from the original filing.

Doswell states that copies of the filing were served on parties on the official service list and the Florida Public Service Commission.

Comment Date: 5 p.m. eastern time on March 28, 2005.

7. UBS AG

[Docket No. ER02-973-002]

Take notice that on March 7, 2005, UBS AG (UBS) submitted a triennial updated market power analysis. In addition, UBS submitted a revised market-based rate tariff in compliance with Order No. 652, Reporting Requirement for Changes in Status for Public Utilities with Market-Based Rate Authority issued February 10, 2005, 110 FERC ¶ 61,097 (2005).

Comment Date: 5 p.m. eastern time on March 28, 2005.

8. California Independent System Operator Corporation

[Docket No. ER04-632-002]

Take notice that on March 7, 2005, as corrected on March 8, 2005, the California Independent System Operator Corporation submitted a compliance filing pursuant to the Commission's February 18, 2005 Order in Docket No. ER04-632-001, 110 FERC ¶ 61,173.

CAISO states that the filing has been served on all parties on the official service list for this proceeding and has been posted on the CAISO Web site.

Comment Date: 5 p.m. eastern time on March 28, 2005.

9. Midwest Independent Transmission System Operator, Inc.

[Docket Nos. ER04-691-028, EL04-104-027]

Take notice that on March 7, 2005, the Midwest Independent Transmission System Operator, Inc. (Midwest ISO) submitted a compliance filing pursuant to the Commission's orders issued August 6, 2004, Midwest Independent Transmission Operator, Inc., 108 FERC ¶ 61,163 (2004) and January 24, 2005, Midwest Independent Transmission System Operator, Inc., et al., 110 FERC ¶ 61,049 (2005). Midwest ISO has requested a March 24, 2005 effective date.

The Midwest ISO states that it has electronically served a copy of the filing on all Midwest ISO members, member representatives of transmission owners and non-transmission owners, the Midwest ISO advisory committee participants, as well as all State commissions within the region. In addition, Midwest ISO states that the filing has been electronically posted on the Midwest ISO's Web site at http://www.midwestiso.org under the heading “Filings to FERC” and that it will provide hard copies to any interested parties upon request.

Comment Date: 5 p.m. eastern time on March 28, 2005.

10. Old Dominion Electric Cooperative

[Docket No. ER05-360-001]

Take notice that on March 3, 2005, Old Dominion Electric Cooperative submitted a compliance filing pursuant to the Commission's letter order issued February 16, 2005 in Docket No. ER05-360-000, 110 FERC ¶ 61,165 (2005).

Comment Date: 5 p.m. eastern time on March 24, 2005.

11. Kentucky Utilities Company

[Docket No. ER05-465-001]

Take notice that on March 3, 2005, Kentucky Utilities (KU) (a subsidiary of LG&E Energy LLC) submitted an amendment to its January 19, 2005 filing of an amendment to the contract between KU and the City of Madisonville, Kentucky dealing with the pricing of power received from the Southeastern Power Administration, designated as Rate Schedule FERC No. 306. KU states that the revisions were made to better conform to Order No. 614 formatting requirements.

Comment Date: 5 p.m. eastern time on March 24, 2005.

12. Kentucky Utilities Company

[Docket No. ER05-466-001]

Take notice that on March 3, 2005, Kentucky Utilities (KU) (a subsidiary of LG&E Energy LLC) submitted an amendment to its January 19, 2005 filing of an amendment to the contract between KU and the City of Providence, Kentucky dealing with the pricing of power received from the Southeastern Power Administration, designated as Rate Schedule FERC No. 305. KU states that the revisions were made to better conform to Order No. 614 formatting requirements.

Comment Date: 5 p.m. eastern time on March 24, 2005.

13. Kentucky Utilities Company

[Docket No. ER05-467-001]

Take notice that on March 3, 2005, Kentucky Utilities (KU) (a subsidiary of LG&E Energy LLC) submitted an amendment to its January 19, 2005 filing of an amendment to the contract between KU and the City of Barbourville, Kentucky dealing with the pricing of power received from the Southeastern Power Administration, designated as Rate Schedule FERC No. 304. KU states that the revisions were made to better conform to Order No. 614 formatting requirements.

Comment Date: 5 p.m. eastern time on March 24, 2005.

14. Kentucky Utilities Company

[Docket No. ER05-468-001]

Take notice that on March 3, 2005, Kentucky Utilities (KU) (a subsidiary of LG&E Energy LLC) submitted an amendment to its January 19, 2005 filing of an amendment to the contract between KU and the City of Paris, Kentucky dealing with the pricing of power received from the Southeastern Power Administration, designated as Rate Schedule FERC No. 301. KU states that the revisions were made to better conform to Order No. 614 formatting requirements.

Comment Date: 5 p.m. eastern time on March 24, 2005.

15. Kentucky Utilities Company

[Docket No. ER05-469-001]

Take notice that on March 3, 2005, Kentucky Utilities (KU) (a subsidiary of LG&E Energy LLC) submitted an amendment to its January 19, 2005 filing of an amendment to the contract between KU and the City of Bardstown, Kentucky dealing with the pricing of power received from the Southeastern Power Administration, designated as Rate Schedule FERC No. 302. KU states that the revisions were made to better conform to Order No. 614 formatting requirements.

Comment Date: 5 p.m. eastern time on March 24, 2005.

16. Kentucky Utilities Company

[Docket No. ER05-470-001]

Take notice that on March 3, 2005, Kentucky Utilities (KU) (a subsidiary of LG&E Energy LLC) submitted an amendment to its January 19, 2005 filing of an amendment to the contract between KU and the City of Nicholasville, Kentucky dealing with the pricing of power received from the Southeastern Power Administration, designated as Rate Schedule FERC No. 303. KU states that the revisions were made to better conform to Order No. 614 formatting requirements.

Comment Date: 5 p.m. eastern time on March 24, 2005.

17. Kentucky Utilities Company

[Docket No. ER05-474-001]

Take notice that on March 3, 2005, Kentucky Utilities (KU) (a subsidiary of LG&E Energy LLC) submitted an amendment to its January 19, 2005 filing of an amendment to the contract between KU and the City of Falmouth, Kentucky dealing with the pricing of power received from the Southeastern Power Administration, designated as Rate Schedule FERC No. 310. KU states that the revisions were made to better conform to Order No. 614 formatting requirements.

Comment Date: 5 p.m. eastern time on March 24, 2005.

18. Kentucky Utilities Company

[Docket No. ER05-475-001]

Take notice that on March 3, 2005, Kentucky Utilities (KU) (a subsidiary of LG&E Energy LLC) submitted an amendment to its January 19, 2005 filing of an amendment to the contract between KU and the City of Frankfort, Kentucky dealing with the pricing of power received from the Southeastern Power Administration, designated as Rate Schedule FERC No. 311. KU states that the revisions were made to better conform to Order No. 614 formatting requirements.

Comment Date: 5 p.m. eastern time on March 24, 2005.

19. Kentucky Utilities Company

[Docket No. ER05-476-001]

Take notice that on March 3, 2005, Kentucky Utilities (KU) (a subsidiary of LG&E Energy LLC) submitted an amendment to its January 19, 2005 filing of an amendment to the contract between KU and the City of Corbin, Kentucky dealing with the pricing of power received from the Southeastern Power Administration, designated as Rate Schedule FERC No. 309. KU states that the revisions were made to better conform to Order No. 614 formatting requirements.

Comment Date: 5 p.m. eastern time on March 24, 2005.

20. Kentucky Utilities Company

[Docket No. ER05-477-001]

Take notice that on March 3, 2005, Kentucky Utilities (KU) (a subsidiary of LG&E Energy LLC) submitted an amendment to its January 19, 2005 filing of an amendment to the contract between KU and the City of Benham, Kentucky dealing with the pricing of power received from the Southeastern Power Administration, designated as Rate Schedule FERC No. 308. KU states that the revisions were made to better conform to Order No. 614 formatting requirements.

Comment Date: 5 p.m. eastern time on March 24, 2005.

21. Kentucky Utilities Company

[Docket No. ER05-478-001]

Take notice that on March 3, 2005, Kentucky Utilities (KU) (a subsidiary of LG&E Energy LLC) submitted an amendment to its January 19, 2005 filing of an amendment to the contract between KU and the City of Bardwell, Kentucky dealing with the pricing of power received from the Southeastern Power Administration, designated as Rate Schedule FERC No. 307. KU states that the revisions were made to better conform to Order No. 614 formatting requirements.

Comment Date: 5 p.m. eastern time on March 24, 2005.

22. Kentucky Utilities Company

[Docket No. ER05-586-001]

Take notice that on March 3, 2005, Kentucky Utilities (KU) (a subsidiary of LG&E Energy LLC) submitted an amendment to its February 16, 2005 filing of an amendment to the contract between KU and the City of Owensboro, Kentucky dealing with the pricing of power received from the Southeastern Power Administration, designated as Rate Schedule FERC No. 300. KU states that the revisions were made to better conform to Order No. 614 formatting requirements.

Comment Date: 5 p.m. eastern time on March 24, 2005.

23. The Narragansett Electric Company

[Docket No. ER05-675-000]

Take notice that on March 3, 2005, The Narragansett Electric Company (Narragansett) tendered for filing a revised tariff for borderline sales designated as The Narragansett Electric Company, FERC Electric Tariff, First Revised Volume No. 1. Narragansett requests an effective date of November 1, 2004.

Narragansett states that copies of the filing were served on the regulators in the State of Rhode Island.

Comment Date: eastern time on March 24, 2005.

24. Virginia Electric and Power Company

[Docket No. ER05-676-000]

Take notice that on March 3, 2005, Virginia Electric and Power Company (Virginia Power) submitted a revised generator interconnection and operating agreement with Tenaska Virginia Partners, L.P. (Tenaska) to reflect the reclassification of certain direct assignment facilities as network upgrades. Virginia Power has requested an effective date of March 1, 2005.

Virginia Power states that copies of the filing were served on Tenaska and the Virginia State Corporation Commission.

Comment Date: eastern time on March 24, 2005.

25. Calpine Construction Finance Company, L.P.

[Docket No. ER05-677-000]

Take notice that on March 3, 2005, Calpine Construction Finance Company, L.P. (CCFC) submitted for filing a rate schedule for reactive power from the Osprey Energy Center. CCFC requests an effective date of March 15, 2005.

Comment Date: eastern time on March 24, 2005.

26. Pacific Gas and Electric Company

[Docket No. ER05-678-000]

Take notice that on March 4, 2005, Pacific Gas and Electric Company (PG&E) tendered for filing a notice of cancellation of Service Agreement No. 19 under PG&E's FERC Electric Tariff, Sixth Revised Volume No. 5, the generator special facilities agreement with Three Mountain Power, LLC. PG&E requests an effective date of May 4, 2005.

PG&E states that copies of the filing have been served on the California Public Utilities Commission, the California Independent System Operator Corporation and Three Mountain Power, LLC.

Comment Date: eastern time on March 25, 2005.

27. American Electric Power Service Corporation

[Docket No. ER05-683-000]

Take notice that on March 7, 2005, American Electric Power Service Corporation (AEPSC), on behalf of Appalachian Power Company, Columbus Southern Power Company, Indiana Michigan Power Company, Kentucky Power Company and Ohio Power Company (AEP Eastern Operating Companies) tendered for filing a restated and amended PJM services agreement between AEP Eastern Operating Companies and Buckeye Power, Inc.

AEPSC states that a copy of the filing has been served on Buckeye Power, Inc.

Comment Date: eastern time on March 28, 2005.

28. WPS Power Development, LLC

[Docket Nos. ER05-684-000, ER02-1059-001]

Take notice that on March 7, 2005, WPS Power Development, LLC (WPS Power) tendered for filing a Notice of Succession and a revised market-based rate tariff which reflects an internal corporate restructuring and a name change from WPS Power Development, Inc. to WPC Power Development, LLC. WPS Power requests an effective date of March 1, 2005.

Comment Date: eastern time on March 28, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1174 Filed 3-16-05; 8:45 am]

BILLING CODE 6717-01-P